DEPARTMENT OF HOUSING AND URBAN DEVELOPMENT

[Docket No. FR-7036-N-05]

60-Day Notice of Proposed Information Collection: Protection and Enhancement of Environmental Quality; OMB Control No: 2506-0177

AGENCY: Office of Community Planning and Development, (HUD).

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: August 23, 2021.

ADDRESSES: Interested persons are invited to submit comments regarding this proposal. Comments should refer to the proposal by name and/or OMB Control Number and should be sent to: Anna Guido, Reports Management Officer, QDAM, Department of Housing and Urban Development, 451 7th Street SW, Room 4176, Washington, DC 20410-5000; telephone 202-402-5535 (this is not a toll-free number) or email at Anna.P.Guido@hud.gov for a copy of the proposed forms or other available information. Persons with hearing or speech impairments may access this number through TTY by calling the toll-free Federal Relay Service at (800) 877-8339.

FOR FURTHER INFORMATION CONTACT: Liz Zepeda, Environmental Specialist, Office of Environment and Energy, Department of Housing and Urban Development, 451 7th Street SW, Washington, DC 20410; email Liz Zepeda at elizabeth.g.zepeda@hud.gov or telephone 202-402-3988. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

A. Overview of Information Collection

Title of Information Collection: 24 CFR part 50—Protection and Enhancement of Environmental Quality.

OMB Approval Number: 2506-0177.

Type of Request: Extension of currently approved collection.

Form Number: N/A.

Description of the need for the information and proposed use: HUD requests its applicants to supply environmental information that is not otherwise available to HUD staff for the environmental review on an applicant's proposal for HUD financial assistance to develop or improve housing or community facilities. HUD itself must perform an environmental review for the purpose of compliance with its environmental regulations found at 24 CFR part 50, Protection and Enhancement of Environmental Quality. Part 50 implements the National Environmental Policy Act and implementing procedures of the Council on Environmental Quality, as well as the related federal environmental laws and executive orders. HUD's agency-wide provisions—24 CFR 50.3(h)(1) and 50.32—regulate how individual HUD program staffs are to utilize such collected data when HUD itself prepares the environmental review and compliance. Separately, individual HUD programs each have their own regulations and guidance implementing environmental and related collection responsibilities. For the next three years, this approved collection will continue unchanged under this OMB control number to assure adequate coverage for all HUD programs subject to Part 50.

Respondents: Businesses, not-for-profit institutions, and local governments receiving HUD funding.

Estimated Number of Respondents: 1,700.

Estimated Number of Responses: 1,700.

Frequency of Response: 1.

Average Hours per Response: 3.

Total Estimated Burdens: $238,272.00.

Information collection | Number of respondents | Frequency of response | Responses per annum | Burden hour per response | Annual burden hours | Hourly cost per response | Annual cost
Total | 1,700 | 1 | 1,700 | 3 | 5,100 | $46.72 | $238,272.00

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. chapter 35. Principal Deputy Assistant Secretary for Community Planning and Development, James A. Jemison II, having reviewed and approved this document, is delegating the authority to electronically sign this document to submitter, Nacheshia Foxx, who is the Federal Register Liaison for HUD, for purposes of publication in the Federal Register.

Nacheshia Foxx,
Federal Register Liaison for Department of Housing and Urban Development.

[FR Doc. 2021-12994 Filed 6-23-21; 8:45 am]

BILLING CODE 4210-67-P